DEPARTMENT OF LABOR

Office of Labor-Management Standards

29 CFR Parts 403 and 408

RIN 1215-AB34

Labor Organization Annual Financial Reports; Extension of Comment Period

AGENCY: Office of Labor-Management Standards, Employment Standards Administration, Department of Labor.

ACTION: Proposed rule; extension of comment period.

SUMMARY: This document extends the period for comments on the proposed rule published on December 27, 2002 (67 FR 79280). That proposed rule would revise the annual financial reports labor organizations are required to file under the Labor-Management Reporting and Disclosure Act of 1959, as amended. The comment period, which was to expire on February 25, 2003, is extended 30 days to March 27, 2003. In addition, further information on the proposed revision of the reporting forms will be added to the rulemaking record and made available to the public.

DATES: Comments on the proposed rule published on December 27, 2002 (67 FR 79280) must be received on or before March 27, 2003.

ADDRESSES: Comments should be sent to Victoria A. Lipnic, Assistant Secretary for Employment Standards, U.S. Department of Labor, 200 Constitution Avenue, NW., Room N-5605, Washington, DC 20210.

All commenters are advised that U.S. mail delivery in the Washington, DC area has been slow and erratic due to the ongoing concerns involving anthrax contamination. All commenters must take this into consideration when preparing to meet the deadline for submitting comments. As a convenience to commenters, comments may be transmitted by e-mail to FormLM2-comments@dol-esa.gov or by facsimile (FAX) machine to (202) 693-1340. To assure access to the FAX equipment, only comments of five or fewer pages will be accepted via FAX transmittal, unless arrangements are made prior to faxing, by calling the number below and scheduling a time for fax receipt by OLMS.

It is recommended that you confirm receipt of your comment by contacting (202) 693-0122 (this is not a toll-free number). Individuals with hearing impairments may call 1-800-877-8339 (TTY/TDD).

Comments will be available for public inspection during normal business hours at the above address.

FOR FURTHER INFORMATION CONTACT: Victoria A. Lipnic, Assistant Secretary for Employment Standards, U.S. Department of Labor, 200 Constitution Avenue, NW, Room N-5605, Washington, DC 20210, olms-mail@dol-esa.gov, (202) 693-0122 (this is not a toll-free number). Individuals with hearing impairments may call 1-800-877-8339 (TTY/TDD).

SUPPLEMENTARY INFORMATION: In the Federal Register of December 27, 2002, (67 FR 79280) the Department published a notice of proposed rulemaking that would revise the annual financial reporting forms that labor organizations are required to file under the Labor-Management Reporting and Disclosure Act of 1959, as amended (LMRDA). Interested persons were invited to submit comments on or before February 25, 2003, 60 days after the publication of the notice.

Because of continuing interest in the proposal, the Department has decided to extend the comment period for 30 days. This extension will also give the public time to review additional information regarding the proposed revision of the reporting forms that the Office of Labor-Management Standards has made available on its Web site at http://www.olms.dol.gov. (Anyone who is unable to access this information on the Internet can obtain the information by contacting the Employment Standards Administration at 200 Constitution Avenue, NW, Room N-5605, Washington, DC 20210, at olms-mail@dol-esa.gov, or at (202) 693-0122 (this is not a toll-free number). Individuals with hearing impairments may call 1-800-877-8339 (TTY/TDD).

Signed at Washington, DC, this 20th day of February, 2003.
Victoria A. Lipnic,
Assistant Secretary for Employment Standards.

[FR Doc. 03-4400 Filed 2-24-03; 8:45 am]

BILLING CODE 4510-CP-P